DEPARTMENT OF HEALTH AND HUMAN SERVICES

Office of the Secretary

Findings of Research Misconduct

AGENCY: Office of the Secretary, HHS.

ACTION: Notice.

SUMMARY: Findings of research misconduct have been made on the part of Gareth John, Ph.D., Professor, Department of Neurology, Icahn School of Medicine at Mount Sinai (ISMMS).

Dr. John engaged in research misconduct in research supported by National Institute of Neurological Disorders and Stroke (NINDS), National Institutes of Health (NIH), grants R01 NS056074 and R01 NS062703. The administrative actions, including one (1) year of supervision, were implemented beginning on April 26, 2018, and are detailed below.

FOR FURTHER INFORMATION CONTACT:

Wanda K. Jones, Dr.P.H., Interim Director, Office of Research Integrity, 1101 Wootton Parkway, Suite 750, Rockville, MD 20852, (240) 453-8200.

SUPPLEMENTARY INFORMATION: Notice is hereby given that the Office of Research Integrity (ORI) has taken final action in the following case:

Gareth John, Ph.D., Icahn School of Medicine at Mount Sinai: Based on Respondent's admission, the report of an inquiry and investigation conducted by ISMMS, and additional analysis conducted by ORI in its oversight review, ORI found that Dr. Gareth John, Professor, Department of Neurology, ISMMS, engaged in research misconduct in research supported by NINDS, NIH, grants R01 NS056074 and R01 NS062703.

ORI found that Respondent engaged in research misconduct by knowingly and intentionally falsifying data reported in Development 141(12):2414-28, 2014 Jun (hereafter referred to as “Development 2014”).

In addition to making an admission, Respondent cooperated fully with ISMMS and ORI and has expressed remorse for his actions.

Specifically, ORI found that Respondent:

• used the p-GSK3α/β double bands in Figure S3B of Development 2014, removed the lower set of bands, reordered the remaining bands and used those bands to represent the actin control in an experiment comparing the impact of Tgfβ1 and ActB individually and in combination in primary oligodendrocyte progenitors (OLPs) and the oligodendrocyte-derived Oli-Neu cell line.

• used the densitometry readings from the falsified actin bands in Figure S3B of Development 2014 to compare the density of A+T, Tgfβ1, ActB, and Veh relative to the false actin signal in Figure S3C-J, creating eight false graphs.

• falsified the bands representing Myelin basic protein (Mbp) in Figure 3C of Development 2014 by cutting and pasting the bands onto a blank background and used those false bands to create a graph showing the density of Mbp in the presence and absence of ActB, Tgfβ1, and Bmp4.

As a result of this admission, Respondent has notified Development that corrections to figures in the paper, but not to the text, including the conclusions in Development 2014 are required.

Dr. John entered into a Voluntary Settlement Agreement and voluntarily agreed, beginning on April 26, 2018:

(1) To have his research supervised for a period of one (1) year; Respondent agreed that prior to submission of an application for U.S. Public Health Service (PHS) support for a research project on which the Respondent's participation is proposed and prior to Respondent's participation in any capacity on PHS-supported research, Respondent shall ensure that a plan for supervision of Respondent's duties is submitted to ORI for approval; the supervision plan must be designed to ensure the scientific integrity of Respondent's research contribution; Respondent agreed that he shall not participate in any PHS-supported research until such a supervision plan is submitted to and approved by ORI; Respondent agreed to maintain responsibility for compliance with the agreed upon supervision plan;

(2) that for one (1) year, any institution employing him shall submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract;

(3) if no supervisory plan is provided to ORI, to provide certification to ORI at the conclusion of the supervision period that he has not engaged in, applied for, or had his name included on any application, proposal, or other request for PHS funds without prior notification to ORI;

(4) to exclude himself voluntarily from serving in any advisory capacity to PHS including, but not limited to, service on any PHS advisory committee, board, and/or peer review committee, or as a consultant for a period of one (1) year; and

(5) to follow up with the journal editor regarding his previous request to correct the following paper to ensure that the corrections are made:

• Development 141(12):2414-28, 2014 Jun.

Wanda K. Jones,
Interim Director, Office of Research Integrity.

[FR Doc. 2018-10310 Filed 5-14-18; 8:45 am]

BILLING CODE 4150-31-P